GENERAL SERVICES ADMINISTRATION

48 CFR Parts 538 and 552

[GSAR Case 2023-G504; Docket No. GSA-GSAR-2023-0011; Sequence No. 1]

General Services Administration Acquisition Regulation; Federal Supply Schedule Clause Corrections

AGENCY: Office of Acquisition Policy, General Services Administration (GSA).

ACTION: Final rule; technical amendment.

SUMMARY: The General Services Administration is issuing this final rule as a technical amendment to make corrections and editorial changes to remove outdated Federal Supply Schedule terminology and incorrect references in the General Services Administration Acquisition Regulation.

DATES: Effective May 5, 2023.

FOR FURTHER INFORMATION CONTACT: For clarification of content, contact Ms. Daria Giannotti, Procurement Analyst, at 215-446-2878 or GSARPolicy@gsa.gov. For information pertaining to status or publication schedules, contact the Regulatory Secretariat Division at GSARegSec@gsa.gov or 202-501-4755. Please cite GSAR Case 2023-G504.

SUPPLEMENTARY INFORMATION:

I. Background

The General Services Administration (GSA) conducts routine reviews of its acquisition regulations to identify outdated content. As part of this review, GSA identified:

• Incorrect references to General Services Administration Acquisition Regulation (GSAR) subsections within a few GSAR clauses needing editorial updates.

• Several outdated Special Item Number (SIN) and Federal Supply Schedule (FSS) references resulting from the consolidation of the Multiple Award Schedule (MAS) needing editorial updates.

○ For additional background, a SIN is a type of labeling used on MAS to identify products and services contract holders offer.

○ MAS, also known as the Federal Supply Schedule (FSS) and the GSA Schedule, is a long-term governmentwide contract with commercial companies that provide access to millions of commercial products and services at fair and reasonable prices to the Federal Government.

• Five clauses and three sections needing editorial updates resulting from the consolidation of the MAS.

○ For additional background, the consolidation of the MAS began in 2020 and resulted in the consolidation of 24 existing Schedules into one single Schedule for products, services, and solutions. This included Schedules 70 and 84. As part of the MAS consolidation, the SIN structure and category descriptions were updated. This technical amendment makes conforming changes.

Overview of Editorial Updates

In GSAR subpart 538.2, section 538.273 was amended to revise the clause title for section 552.238-74 in order to align the title with the Introduction of New Supplies and Services SIN resulting from the MAS consolidation. The clause prescription for section 552.238-109 was also amended to align with the consolidated MAS and SIN references.

In subpart 538.70, sections 538.7000 and 538.7001 were amended to remove references to Federal Supply Schedules 70 and 84, as these Schedules were part of the MAS consolidation.

In subpart 552.2, five clauses were amended as follows:

—The GSAM reference in the note to paragraph (b)(2) of section 552.216-75 was corrected to 507.103(b)(3).

—The title of clause 552.238-74 was revised to align with the Introduction of New Supplies and Services SIN. The text within this clause was also amended throughout to reflect the same.

—The GSAM reference in the note to paragraph (b)(2) of Alternate I of section 552.238-80 was corrected to 507.103(b)(3).

—Paragraph (a) of section 552.238-110 was amended to remove outdated SIN references and editorial changes were made in paragraph (c)(1).

—Paragraph (a) of section 552.238-113 was amended to remove outdated SIN references. Paragraph (d)(1) was amended to remove references to Federal Supply Schedules 70 and 84. Editorial changes were also made throughout paragraph (d).

In subpart 552.3, the title of clause 552.238-74 was revised to align with the Introduction of New Supplies and Services SIN as a result of the MAS consolidation.

II. Publication of This Final Rule for Public Comment Is Not Required by Statute

The statute that applies to the publication of the Federal Acquisition Regulation (FAR) is 41 U.S.C. 1707. Subsection (a)(1) of 41 U.S.C. 1707 requires that a procurement policy, regulation, procedure, or form (including an amendment or modification thereof) must be published for public comment if it relates to the expenditure of appropriated funds, and has either a significant effect beyond the internal operating procedures of the agency issuing the policy, regulation, procedure, or form, or has a significant cost or administrative impact on contractors or offerors. This final rule is not required to be published for public comment because the change is technical in nature and makes conforming updates to the title and number of a referenced policy document.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. The Office of Information and Regulatory Affairs (OIRA) in the Office of Management and Budget (OMB) has determined that this is not a significant regulatory action and, therefore, was not subject to review under Section 6(b) of Executive Order 12866, Regulatory Planning and Review, dated September 30, 1993.

IV. Congressional Review Act

The Congressional Review Act, 5 U.S.C. 801 et seq., as amended by the Small Business Regulatory Enforcement Fairness Act of 1996, generally provides that before a “major rule” may take effect, the agency promulgating the rule must submit a rule report, which includes a copy of the rule, to each House of the Congress and to the Comptroller General of the United States. The General Services Administration will submit a report containing this rule and other required information to the U.S. Senate, the U.S. House of Representatives, and the Comptroller General of the United States. A major rule cannot take effect until 60 days after it is published in the Federal Register. OIRA has determined that this is not a major rule under 5 U.S.C. 804.

V. Regulatory Flexibility Act

The Regulatory Flexibility Act (5 U.S.C. 601 et seq.) does not apply to this rule, because an opportunity for public comment is not required to be given for this rule under 41 U.S.C. 1707(a)(1) (see Section II. of this preamble). Accordingly, no regulatory flexibility analysis is required, and none has been prepared.

VI. Paperwork Reduction Act

The Paperwork Reduction Act does not apply because the changes to the GSAR do not impose recordkeeping or information collection requirements, or the collection of information from offerors, contractors, or members of the public that require the approval of the Office of Management and Budget under 44 U.S.C. 3501, et seq.

List of Subjects in 48 CFR Parts 538 and 552

Government procurement.

Jeffrey A. Koses,
Senior Procurement Executive, Office of Acquisition Policy, Office of Government-wide Policy, General Services Administration.

Therefore, GSA amends 48 CFR parts 538 and 552 as set forth below:

1. The authority citation for 48 CFR parts 538 and 552 continues to read as follows:

Authority: 40 U.S.C. 121(c).

PART 538—FEDERAL SUPPLY SCHEDULE CONTRACTING

538.273 [Amended]

2. Amend section 538.273 by removing from paragraph (b)(2) the phrase “New Supplies/Services (INSS)” and adding “New Supplies and Services Special Item Number (SIN)” in its place and revising paragraph (d)(33).

The revision reads as follows:

538.273 FSS solicitation provisions and contract clauses.

* * * * *

(d) * * *

(33) 552.238-109, Authentication Supplies and Services. Use in Federal Supply Schedule solicitations that contain information technology Special Item Numbers (SINs) only, and only contracts awarded SINs associated with the Homeland Security Presidential Directive 12 (HSPD-12).

* * * * *

3. Revise section 538.7000 to read as follows:

538.7000 Scope of subpart.

This subpart prescribes policies and procedures that implement statutory provisions authorizing non-federal organizations to use—

(a) The Consolidated Schedule contracts containing information technology or security and protection Special Item Numbers (SINs); and

(b) Other Federal Supply Schedules as authorized in this subpart.

538.7001 [Amended]

4. Amend section 538.7001 by removing the definitions of “Schedule 70” and “Schedule 84”.

PART 552—SOLICITATION PROVISIONS AND CONTRACT CLAUSES

5. Amend section 552.216-75 by—

a. Revising the date of the clause; and

b. Removing from the note to paragraph (b)(2) the citation “507.105(c)(3)” and adding “507.103(b)(3)” in its place.

The revision reads as follows:

552.216-75 Transactional Data Reporting.

* * * * *

Transactional Data Reporting (MAY 2023)

* * * * *

6. Amend section 552.238-74 by—

a. Revising the section heading and the heading and date of the provision;

b. In paragraph (a) removing the definition heading “Introduction of New Supplies/Services Special Item Number (INSS SIN)” and adding “Introduction of New Supplies and Services Special Item Number (SIN)” in its place; and

c. Revising paragraphs (b), (c), and (d).

The revisions read as follows:

552.238-74 Introduction of New Supplies and Services Special Item Number (SIN).

* * * * *

Introduction of New Supplies and Services Special Item Number (SIN) (MAY 2023)

(a) * * *

Introduction of New Supplies and Services Special Item Number (SIN) * * *

(b) Offerors are encouraged to introduce new or improved supplies or services via the “Introduction of New Supplies and Services SIN” at any time by clearly identifying this SIN item in the offer.

(c) The Contracting Officer has the sole discretion to determine whether a supply or service will be accepted as an “Introduction of New Supplies and Services SIN” item. The Contracting Officer will evaluate and process the offer and may perform a technical review. This SIN provides temporary placement until the Contracting Officer formally categorizes the new supply or service.

(d) If the Contractor has an existing schedule contract, GSA may, at the sole discretion of the Contracting Officer, modify the existing contract to include the “Introduction of New Supplies and Services SIN” item in accordance with 552.238-82, Modifications (Federal Supply Schedules).

* * * * *

7. Amend section 552.238-80 in Alternate I by—

a. Revising the date of the Alternate;

b. Removing from the note to paragraph (b)(2) the citation “507.105(c)(3)” and adding “507.103(b)(3)” in its place; and

c. Removing from the last sentence in paragraph (c)(1) the word “benefitting” and adding “benefiting” in its place.

The revision reads as follows:

552.238-80 Industrial Funding Fee and Sales Reporting.

* * * * *

Alternate I (MAY 2023). * * *

* * * * *

8. Amend section 552.238-110 by revising the date of the clause and paragraph (a) to read as follows:

552.238-110 Commercial Satellite Communication (COMSATCOM) Services.

* * * * *

Commercial Satellite Communication (COMSATCOM) Services (MAY 2023)

(a) General background. A Special Item Number (SIN) has been established for Commercial Satellite Communications (COMSATCOM) services, focused on transponded capacity and fixed and mobile subscription services, to make available common COMSATCOM services to all Ordering Activities.

* * * * *

9. Amend 552.238-113 by—

a. Revising the date of the clause;

b. Removing from the second sentence in paragraph (a) introductory text the phrase “Special Item Number 132-53, Wireless Services” and adding “the Wireless Mobility Services Special Item Number” in its place;

c. Revising paragraph (d)(1); and

d. Removing from paragraphs (d)(2), (3), and (4) the word “PROVIDED” and adding “provided” in its place, respectively.

The revisions read as follows:

552.238-113 Scope of Contract (Eligible Ordering Activities).

* * * * *

Scope of Contract (Eligible Ordering Activities) (MAY 2023)

(d) * * *

(1) State and local government may place orders against Consolidated Schedule contracts containing information technology or security and protection Special Item Numbers, on an optional basis; provided, the Contractor accepts order(s) from such activities;

* * * * *

[FR Doc. 2023-07053 Filed 4-4-23; 8:45 am]

BILLING CODE 6820-61-P